DEPARTMENT OF HOUSING AND URBAN DEVELOPMENT

[Docket No. FR-7070-N-28]

30-Day Notice of Proposed Information Collection: Emergency Housing Vouchers and Stability Vouchers; OMB Control No.: 2577-0297

AGENCY: Office of Policy Development and Research, Chief Data Officer, HUD.

ACTION: Notice.

SUMMARY: HUD is seeking approval from the Office of Management and Budget (OMB) to reinstate the information collection described below. In accordance with the Paperwork Reduction Act, HUD is requesting comment from all interested parties on the proposed collection of information. The purpose of this notice is to allow for 30 days of public comment.

DATES: Comments Due Date: July 6, 2023.

ADDRESSES: Interested persons are invited to submit comments regarding this proposal. Written comments and recommendations for the proposed information collection should be sent within 30 days of publication of this notice to www.reginfo.gov/public/do/PRAMain. Find this particular information collection by selecting “Currently under 30-day Review—Open for Public Comments” or by using the search function. Interested persons are also invited to submit comments regarding this proposal by name and/or OMB Control Number and can be sent to: Colette Pollard, Reports Management Officer, REE, Department of Housing and Urban Development, 451 7th Street SW, Room 8210, Washington, DC 20410-5000 or email at PaperworkReductionActOffice@hud.gov.

FOR FURTHER INFORMATION CONTACT: Colette Pollard, Reports Management Officer, REE, Department of Housing and Urban Development, 451 7th Street SW, Washington, DC 20410; email Colette Pollard at Colette.Pollard@hud.gov, telephone 202-402-3400. This is not a toll-free number. HUD welcomes and is prepared to receive calls from individuals who are deaf or hard of hearing, as well as individuals with speech or communication disabilities. To learn more about how to make an accessible telephone call, please visit https://www.fcc.gov/consumers/guides/telecommunications-relay-service-trs.

Copies of available documents submitted to OMB may be obtained from Ms. Pollard.

SUPPLEMENTARY INFORMATION: This notice informs the public that HUD is seeking approval from OMB for the information collection described in Section A.

The Federal Register notice that solicited public comment on the information collection for a period of 60 days was published on March 24, 2023 at 88 FR 17865.

A. Overview of Information Collection

Title of Information Collection: Emergency Housing Voucher and Stability Voucher Data Collection.

OMB Approval Number: OMB: 2577-0297.

Type of Request: Reinstatement of expired data collection.

Form Number: HUD Financial Forms, HUD-52681-B.

Description of the need for the information and proposed use:

This is a reinstatement of emergency PRA 2577-0297 which will then be discontinued. The data collected within this PRA has been absorbed by another collection 2577-0282.

The Housing Choice Voucher (HCV) Program was recently appropriated $43,439,000 for a new homeless voucher program in the Fiscal Year 2021 appropriation and $5,000,000,000 for Emergency Housing Vouchers in the American Rescue Plan of 2021. For both of these new voucher types it is necessary to have the ability to monitor and track the expenses and lease-up of these new vouchers to ensure utilization and appropriate program oversight. Without this data collection it will be impossible to recapture and reallocate unused vouchers per congressional mandate.

Overall, the Housing Choice Voucher program has the need to collect leasing and expenditure data from Public Housing Agencies (PHAs) on a monthly basis to determine utilization for these vouchers as well as apply cash management principles for funds accounting. Further, HUD needs to collect this leasing and expenditure information in an expedited manner to ensure that HUD can follow the congressional directive to “revoke and redistribute any unleased vouchers and associated funds, including administrative costs to other public housing agencies.”

As a byproduct of the COVID-19 National Emergency, the American Rescue Plan of 2021 was enacted on March 11, 2021. The American Rescue Plan mandates that the Emergency Housing Vouchers must be allocated to the PHAs within 60 days of enactment. With this infusion of $5,000,000,000 in new vouchers it is essential for HUD to have the ability to collect leasing and expenditure information on these new vouchers to provide transparency and accountability to the American public.

In total, the “Emergency Housing Voucher and Housing Stability Voucher Data Collection” is anticipated to contain 20 fields. This data must be reported to HUD on a monthly basis once vouchers are allocated to the PHAs.

Respondents: Public Housing Authorities receiving voucher awards of Emergency Housing Vouchers and/or Housing Stability Vouchers.

Estimation of Burden Hours:
Information collection | Number of respondents | Frequency of response | Responses per annum | Burden hour per response | Annual burden hours | Hourly cost per response | Annual cost
Financial Form | 700 | 12 | 8,400 | 1 | 8,400 | $34 | $285,600

Our burden estimate for the number of respondents is based the number of PHAs that have received EHV awards as well as PHAs that will receive Stability Vouchers. It is assumed that PHAs will submit data monthly which is used to calculate “responses per annum”. This number is multiplied by the burden hours per response to arrive at an annual estimate of burden hours. This is then multiplied by median average wage of a “Management Analyst” according to the Bureau of Labor Statistics for 2021 to arrive at a total annual cost.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

(5) Ways to minimize the burden of the collection of information on those who are to respond, including the use of automated collection techniques or other forms of information technology.

HUD encourages interested parties to submit comment in response to these questions.

C. Authority

Section 3507 of the Paperwork Reduction Act of 1995, 44 U.S.C. chapter 35.

Colette Pollard,
Department Reports Management Officer, Office of Policy Development and Research, Chief Data Officer.

[FR Doc. 2023-12063 Filed 6-5-23; 8:45 am]

BILLING CODE 4210-67-P